DEPARTMENT OF TRANSPORTATION

Federal Aviation Administration

14 CFR Part 39

[Docket No. FAA-2006-24788; Directorate Identifier 2006-NM-073-AD]

RIN 2120-AA64

Airworthiness Directives; Empresa Brasileira de Aeronautica S.A. (EMBRAER) Model ERJ 170 Airplanes

AGENCY: Federal Aviation Administration (FAA), Department of Transportation (DOT).

ACTION: Proposed rule; withdrawal.

SUMMARY: The FAA withdraws a notice of proposed rulemaking (NPRM) that proposed a new airworthiness directive (AD) for certain EMBRAER Model ERJ 170 airplanes. The proposed AD would have required performing a one-time inspection for proper crimping of the terminal lugs for the power cables of each integrated drive generator (IDG), installing a new sleeve on the terminal, and re-crimping if necessary. Since the proposed AD was issued, we have received new data from the manufacturer that the proposed actions have been done on all affected airplanes. Accordingly, the proposed AD is withdrawn.

ADDRESSES: You may examine the AD docket on the Internet at http://dms.dot.gov, or in person at the Docket Management Facility office between 9 a.m. and 5 p.m., Monday through Friday, except Federal holidays. The Docket Management Facility office (telephone (800) 647-5227) is located on the plaza level of the Nassif Building at the U.S. Department of Transportation, 400 Seventh Street, SW., Room PL-401, Washington, DC. This docket number is FAA-2006-24788; the directorate identifier for this docket is 2006-NM-073-AD.

FOR FURTHER INFORMATION CONTACT: Todd Thompson, Aerospace Engineer, International Branch, ANM-116, Transport Airplane Directorate, FAA, 1601 Lind Avenue, SW., Renton, Washington 98057-3356; telephone (425) 227-1175; fax (425) 227-1149.

SUPPLEMENTARY INFORMATION:

Discussion

We proposed to amend part 39 of the Federal Aviation Regulations (14 CFR part 39) with a notice of proposed rulemaking (NPRM) for a new AD for certain EMBRAER Model ERJ 170 airplanes. That NPRM was published in the Federal Register on May 17, 2006 (71 FR 28628). The NPRM would have required performing a one-time inspection for proper crimping of the terminal lugs for the power cables of each integrated drive generator (IDG), installing a new sleeve on the terminal, and re-crimping if necessary. The NPRM resulted from a report that the terminal lugs for the power cables of the IDGs may not be adequately crimped, which could allow the cables to be pulled out of the terminals with no significant force. The proposed actions were intended to prevent loss of all normal electrical power for the airplane, and consequent reduced controllability of the airplane.

Actions Since NPRM Was Issued

Since we issued the NPRM, Empresa Brasileira de Aeronautica S.A. (EMBRAER), the airplane manufacturer, has informed us that the proposed actions have been done on all affected airplanes.

FAA's Conclusions

Upon further consideration, we have determined that the proposed actions are no longer necessary because the proposed actions have already been accomplished on all airplanes listed in the applicability of the NPRM. Accordingly, the NPRM is withdrawn.

Withdrawal of the NPRM does not preclude the FAA from issuing another related action or commit the FAA to any course of action in the future.

Regulatory Impact

Since this action only withdraws an NPRM, it is neither a proposed nor a final rule and therefore is not covered under Executive Order 12866, the Regulatory Flexibility Act, or DOT Regulatory Policies and Procedures (44 FR 11034, February 26, 1979).

List of Subjects in 14 CFR Part 39

Air transportation, Aircraft, Aviation safety, Safety.

The Withdrawal

Accordingly, we withdraw the NPRM, Docket No. FAA-2006-24788, Directorate Identifier 2006-NM-073-AD, which was published in the Federal Register on May 17, 2006 (71 FR 28628).

Issued in Renton, Washington, on July 27, 2006.
Ali Bahrami,
Manager, Transport Airplane Directorate, Aircraft Certification Service.

[FR Doc. E6-12836 Filed 8-7-06; 8:45 am]

BILLING CODE 4910-13-P